DEPARTMENT OF ENERGY

Federal Energy Regulatory Commission

[Docket No. CP13-485-000]

Texas Gas Transmission, LLC; Notice of Intent To Prepare an Environmental Assessment for the Proposed Texas Gas Abandonment Project and Request for Comments on Environmental Issues

The staff of the Federal Energy Regulatory Commission (FERC or Commission) will prepare an environmental assessment (EA) that will discuss the environmental impacts of the Texas Gas Abandonment Project involving abandonment of facilities by Texas Gas Transmission, LLC (Texas Gas) located in numerous counties in Kentucky, Tennessee, Mississippi, Arkansas, and Louisiana. The Commission will use this EA in its decision-making process to determine whether the project is in the public convenience and necessity.

This notice announces the opening of the scoping process the Commission will use to gather input from the public and interested agencies on the project. Your input will help the Commission staff determine what issues they need to evaluate in the EA. Please note that the scoping period will close on October 9, 2013.

This notice is being sent to the Commission's current environmental mailing list for this project. State and local government representatives should notify their constituents of this proposed project and encourage them to comment on their areas of concern.

Texas Gas provided landowners with a fact sheet prepared by the FERC entitled “An Interstate Natural Gas Facility On My Land? What Do I Need To Know?”. This fact sheet addresses a number of typically-asked questions, including the use of eminent domain and how to participate in the Commission's proceedings. It is also available for viewing on the FERC Web site (www.ferc.gov).

Summary of the Proposed Project

Texas Gas proposes to abandon in-place and ultimately transfer to a corporate affiliate, Bluegrass Pipeline Company, LLC (Bluegrass), portions of its existing looped ¹ Mainline System (MLS) 26-2 and MLS 26-1 pipelines and its Bastrop-Eunice System (BAE) 26-1 pipeline, including auxiliary and associated facilities in numerous counties in Kentucky, Tennessee, Mississippi, Arkansas, and Louisiana. Texas Gas clarified that the pipeline proposed for abandonment consists mostly of a contiguous pipeline designated as either MLS 26-2, MLS 26-1, or BAE 26-1, depending on what additional Texas Gas pipelines are located in the same right-of-way, and that certain segments along the pipeline were selected for abandonment based upon the suitability for future transportation of natural gas liquids. Texas Gas states it has experienced a decline in its customer base and throughput volumes over the last few years as a direct result of the emergence of gas supplies nearer its market areas and the construction of new pipeline infrastructure in the Midwest. Consequently, Texas Gas states, it has attempted to solicit interest in customers acquiring new or additional capacity on its system. However, Texas Gas received no requests for long-term firm service. Due to this lack of market demand for firm services, Texas Gas concluded that the facilities proposed for abandonment are no longer needed.

¹ A pipeline loop is a segment of pipe constructed parallel to an existing pipeline to increase capacity.

The Texas Gas Abandonment Project would abandon by transfer about 567.8 miles of 26-inch-diameter pipeline consisting of:

• 246.5 miles of the MLS 26-2 Pipeline from the Hardinsburg Compressor Station at milepost (MP) 530.4 in Breckenridge County, Kentucky to MP 283.9 in Tipton County, Tennessee;

• 2.6 miles of the MLS 26-1 Pipeline from MP 242.0 in DeSoto County, Mississippi to the Southaven Header at MP 239.4;

• 124.1 miles of the MLS 26-2 Pipeline from MP 228.4 in DeSoto County, Mississippi to the east header of the Mississippi River crossing at MP 104.3 in Washington County, Mississippi;

• 2.9 miles of the MLS 26-1 Pipeline from the east header of the Mississippi River crossing at MP 104.3 in Washington County, Mississippi to the west header of the crossing at MP 101.5 in Chicot County, Arkansas;

• 45.8 miles of the MLS 26-2 Pipeline from the west header of the Mississippi River crossing at MP 101.5 in Chicot County, Arkansas to the discharge end of the Bastrop Compressor Station at MP 55.7 in Morehouse Parish, Louisiana;

• 45.8 miles of the BAE 26-1 Pipeline from the suction end of the Bastrop Compressor Station at MP 0.0 in Morehouse Parish, Louisiana to a block valve at the end of the 36-inch-diameter pipeline loop at MP 45.8 in Ouachita Parish, Louisiana;

• 48.5 miles of the BAE 26-1 Pipeline from a block valve at the end of the 36-inch-diameter pipeline loop at MP 78.1 in La Salle Parish, Louisiana to the north header of the Red River crossing at MP 126.6 in Rapides Parish, Louisiana; and

• 54.1 miles of the BAE 26-1 Pipeline from the south header of the Red River crossing at MP 129.1 in Rapides Parish, Louisiana to the discharge header of the Eunice Compressor Station at MP 183.2 in Acadia Parish, Louisiana.

Texas Gas would also abandon by transfer all ancillary and associated facilities such as valves, catholic protection, pig launchers/receivers, and control equipment; and abandon minor facilities at 140 sites across the systems, all of which would require ground disturbing activities.

Texas Gas states that following abandonment authority it would continue to provide natural gas transportation service on its remaining 30- and 26-inch-diameter loop line facilities and that Bluegrass would convert the abandoned facilities to natural gas liquids (NGL) transportation service.

The general location of the project facilities is shown in appendix 1.²

² The appendices referenced in this notice will not appear in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

Texas Gas' abandonment activities would require ground disturbance of approximately 20.8 acres at 140 sites and would involve the following: Disconnection of the 26-inch-diameter pipeline from the suction and discharge piping at 10 compressor stations; reconfiguration of the compressor stations' piping to maintain station function and reconnection of the 26-inch-diameter pipeline; isolation of mainline valves, mainline valves with cross-over pipeline segments, and headers by removing short segments of 26-inch-diameter pipeline containing these facilities and reconnecting the 26-inch-diameter pipeline; replacement of 74 customer and interconnecting taps by their removal from the 26-inch-diameter pipeline and installing new taps at adjacent existing Texas Gas-owned pipelines; and abandonment by removal of 9 other unused taps. The area of ground disturbance at each of the 140 sites would average about 0.148 acre. Upon conclusion of the abandonment activities, the disturbed acreage would be restored.

Facilities To Be Constructed Following Abandonment

Texas Gas indicates that following transfer of the facilities, Bluegrass would perform activities that are not under the jurisdiction of the FERC. Although FERC doesn't have the regulatory authority to modify or deny the construction of these facilities, we will disclose available information regarding the construction impacts in our EA. These activities would include:

Northeast Connector Project—Bluegrass would construct facilities to undertake the transportation of NGL between producing areas in West Virginia, Pennsylvania, and Ohio and Texas Gas' existing Hardinsburg Compressor Station in Breckenridge County, Kentucky. The facilities would include:

• About 217 miles of 20-inch-diameter pipeline in Pennsylvania, West Virginia, and Ohio;

• one new pump station in Highland County, Ohio; and

• about 394 miles of 24-inch-diameter pipeline in Ohio and Kentucky.

Conversion Project—Bluegrass would construct facilities related to the conversion of the facilities abandoned by Texas Gas including:

• About 2 miles of 26-inch-diameter pipeline near Texas Gas' existing Greenville Compressor Station in Washington County, Mississippi;

• about 32 miles of 26-inch-diameter pipeline adjacent to Texas Gas' existing facilities in Ouachita, Caldwell, and LaSalle Parishes, Louisiana;

• about 2.5 miles of 26-inch-diameter pipeline adjacent to Texas Gas' existing facilities in Rapides Parish, Louisiana;

• about 91 miles of 24-inch-diameter pipeline in Tipton County, Tennessee; Mississippi and Crittenden Counties, Arkansas; and DeSoto County, Mississippi;

• three NGL pump stations near Texas Gas' existing Slaughters, Covington, and Columbia compressor stations in Webster County, Kentucky; Tipton County, Tennessee; and Caldwell Parish, Louisiana, respectively; and

• pipeline replacements at numerous sites along the pipeline segments proposed for abandonment by Texas Gas.

Louisiana Extension Project—Bluegrass would construct a pipeline for the transportation of NGL in Louisiana, consisting of 59 miles of 24-inch-diameter pipeline between Texas Gas' Eunice Compressor Station in Acadia Parish and existing fractionation and underground storage facilities in Calcasieu Parish, Louisiana.

Louisiana Fractionation and Storage Facilities—A separate, as yet unidentified, joint venture entity is also contemplating increasing both fractionation and underground storage capability in Calcasieu Parish, Louisiana.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this notice, the Commission requests public comments on the scope of the issues to address in the EA. We will consider all filed comments during the preparation of the EA.

In the EA we will discuss impacts that could occur as a result of the abandonment of the proposed project under these general headings:

• Geology and soils;

• Land use;

• Water resources, fisheries, and wetlands;

• Cultural resources;

• Vegetation and wildlife;

• Air quality and noise;

• Endangered and threatened species;

• Public safety; and

• Cumulative impacts.

We will also evaluate reasonable alternatives to the proposed project or portions of the project, and make recommendations on how to lessen or avoid impacts on the various resource areas.

The EA will present our independent analysis of the issues. The EA will be available in the public record through eLibrary. Depending on the comments received during the scoping process, we may also publish and distribute the EA to the public for an allotted comment period. We will consider all comments on the EA before making our recommendations to the Commission. To ensure we have the opportunity to consider and address your comments, please carefully follow the instructions in the Public Participation section below.

With this notice, we are asking agencies with jurisdiction by law and/or special expertise with respect to the environmental issues of this project to formally cooperate with us in the preparation of the EA ³. Agencies that would like to request cooperating agency status should follow the instructions for filing comments provided under the Public Participation section of this notice.

³ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with applicable State Historic Preservation Offices (SHPO), and to solicit their views and those of other government agencies, interested Indian tribes, and the public on the project's potential effects on historic properties.⁴ We will define the project-specific Area of Potential Effects (APE) in consultation with the SHPOs as the project develops. On natural gas facility projects, the APE at a minimum encompasses all areas subject to ground disturbance (examples include construction right-of-way, contractor/pipe storage yards, compressor stations, and access roads). Our EA for this project will document our findings on the impacts on historic properties and summarize the status of consultations under section 106.

⁴ The Advisory Council on Historic Preservation's regulations are at Title 36, Code of Federal Regulations, Part 800. Those regulations define historic properties as any prehistoric or historic district, site, building, structure, or object included in or eligible for inclusion in the National Register of Historic Places.

Public Participation

You can make a difference by providing us with your specific comments or concerns about the project. Your comments should focus on the potential environmental effects, reasonable alternatives, and measures to avoid or lessen environmental impacts. The more specific your comments, the more useful they will be. To ensure that your comments are timely and properly recorded, please send your comments so that the Commission receives them in Washington, DC on or before October 9, 2013.

For your convenience, there are three methods which you can use to submit your comments to the Commission. In all instances please reference the project docket number CP13-485-000 with your submission. The Commission encourages electronic filing of comments and has expert staff available to assist you at (202) 502-8258 or efiling@ferc.gov.

(1) You can file your comments electronically using the eComment feature on the Commission's Web site (www.ferc.gov) under the link to Documents and Filings. This is an easy method for interested persons to submit brief, text-only comments on a project;

(2) You can file your comments electronically using the eFiling feature on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; and local libraries and newspapers. This list also includes all affected landowners (as defined in the Commission's regulations) who are existing right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the proposed project.

If we publish and distribute the EA, copies will be sent to the environmental mailing list for public review and comment. If you would prefer to receive a paper copy of the document instead of the CD version or would like to remove your name from the mailing list, please return the attached Information Request (appendix 2).

Becoming an Intervenor

In addition to involvement in the EA scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site.

Additional Information

Additional information about the project is available from the Commission's Office of External Affairs, at (866) 208-FERC, or on the FERC Web site at www.ferc.gov using the “eLibrary” link. Click on the eLibrary link, click on “General Search” and enter the docket number, excluding the last three digits in the Docket Number field (i.e., CP13-485-000). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. Go to www.ferc.gov/esubscribenow.htm.

Finally, public meetings or site visits will be posted on the Commission's calendar located at www.ferc.gov/EventCalendar/EventsList.aspx along with other related information.

Dated: September 6, 2013.
Kimberly D. Bose,
Secretary.

[FR Doc. 2013-22317 Filed 9-12-13; 8:45 am]

BILLING CODE 6717-01-P